DEPARTMENT OF ENERGY

Federal Energy Regulatory Commission

[Project No. 13570-002]

Warmsprings Irrigation District; Notice of Effectiveness of Withdrawal of License Application

On April 15, 2013, the Warmsprings Irrigation District (District) filed a license application for an original major project—existing dam for the proposed Warm Springs Dam Hydroelectric Project No. 13570-002. On April 14, 2015, the District filed a letter informing the Commission that it was withdrawing its license application for the project due to unforeseen costs to connect to the grid.

No motion in opposition to the notice of withdrawal has been filed, and the Commission has taken no action to disallow the withdrawal. Pursuant to Rule 216(b) of the Commission's Rules of Practice and Procedure, the withdrawal of the application became effective April 29, 2015 and this proceeding is hereby terminated.¹

¹ 18 CFR 385.216(b) (2014).

Dated: May 11, 2015.
Kimberly D. Bose,
Secretary.

[FR Doc. 2015-11773 Filed 5-14-15; 8:45 am]

BILLING CODE 6717-01-P